DEPARTMENT OF COMMERCE

Census Bureau

Proposed Information Collection; Comment Request; Boundary and Annexation Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before March 7, 2018.

ADDRESSES: Direct all written comments to Jennifer Jessup, Departmental Paperwork Clearance Officer, Department of Commerce, Room 6616, 14th and Constitution Avenue NW, Washington, DC 20230 (or via the internet at PRAcomments@doc.gov). You may also submit comments, identified by Docket Number USBC-2018-0002, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Direct requests for additional information or copies of the information collection instrument(s) and instructions to Robin A. Pennington, U.S. Census Bureau, 4600 Silver Hill Road, Washington, DC 20233 (or via the internet at robin.a.pennington@census.gov).

SUPPLEMENTARY INFORMATION:

I. Overview

The Boundary and Annexation Survey (BAS) is one of many voluntary geographic partnership programs that collects boundaries to update the U.S. Census Bureau's geographic database of addresses, streets, and boundaries. The Census Bureau uses its geographic database to link demographic data from surveys and the decennial census to locations and areas, such as cities, school districts, and counties. In order to tabulate statistics by localities, the Census Bureau must have accurate addresses and boundaries.

The boundaries collected during the BAS and other geographic programs become bounding features for census blocks, which are the building blocks for all Census Bureau geographic boundaries. While the Census Bureau's geographic programs differ in requirements, time frame, and participants, the BAS and other geographic programs all follow the same basic process:

1. The Census Bureau invites eligible participants to the program. For the BAS, the Census Bureau invites legal governments.

2. If they elect to participate in the program, participants receive a copy of the boundaries or addresses that the Census Bureau has on file. BAS participants can choose to review and update their boundaries using Geographic Update Partnership Software (GUPS)—which is a free customized mapping software—paper maps, or their own mapping software.

3. Participants return their updates to the Census Bureau.

4. The Census Bureau processes and verifies all submissions for accuracy, and updates its geographic database with boundary or address updates submitted by the participants.

5. The Census Bureau uses the newly updated boundaries and addresses to tabulate statistics.

II. Abstract

The Census Bureau conducts the Boundary and Annexation Survey (BAS) to collect and maintain information about the inventory of legal boundaries and legal actions affecting the boundaries of:

• Counties and equivalent entities.

• Federally recognized American Indian and Alaska Native federal reservations and off-reservation trust lands.

• Incorporated places.

• Minor civil divisions (MCDs).

• Tribal subdivisions.

This information provides an accurate identification of geographic areas for the Census Bureau to use in conducting the decennial and economic censuses and ongoing surveys, preparing population estimates, and supporting other statistical programs of the Census Bureau and the legislative programs of the federal government.

Through the BAS, the Census Bureau asks each government to review materials and verify the accuracy of the information the Census Bureau has on file or submit corrections. The Census Bureau also requests that if necessary, each government update the boundaries, supply information documenting each legal boundary change, and provide changes in the inventory of governments.

The BAS allows the Census Bureau to collect accurate boundaries for legal areas, which improves the accuracy of the statistics the Census Bureau tabulates. The Census Bureau uses the BAS results to support a number of programs, including congressional and state legislative redistricting, the decennial census and related preparatory tests, the economic census, and the Special Census Program. The American Community Survey and Population Estimates Program use the legal boundaries updated through the BAS to disseminate survey results and estimates.

Numerous federal programs rely on accurate boundaries from the BAS. The U.S. Geological Survey depicts the annual legal boundaries submitted to the BAS on the National Map online. The Department of Housing and Urban Development uses the legal boundaries updated through the BAS to determine jurisdictional eligibility for various grant programs, such as the Community Development Block Grant program. The Department of Agriculture uses legal boundaries updated through the BAS to determine eligibility for various rural housing and economic development programs.

Legal Information

While the Census Bureau has a national implementation of the BAS, the Census Bureau reviews each state's laws for inclusion in the BAS materials sent to participants. In addition, if it comes to the Census Bureau's attention that an area of non-tribal land is in dispute between two or more jurisdictions, the Census Bureau will not make annexations or boundary corrections until all affected parties come to a written agreement, or there is a documented final court decision regarding the matter and/or dispute. If there is a dispute over an area of tribal land, the Census Bureau will not make additions or boundary corrections until the participants provide supporting documents or the U.S. Department of the Interior issues a comment. If necessary, the Census Bureau will request clarification regarding current boundaries or supporting documentation from the U.S. Department of the Interior, Office of the Solicitor.

BAS Universe

The BAS includes approximately 40,000 entities. The BAS universe and mailing materials vary depending upon the needs of the Census Bureau in fulfilling its censuses and household surveys. Every survey year includes the following:

• Counties or equivalent entities.

• Incorporated places with a population of at least 2,500 people.

• MCDs in the six New England states.

• Federally recognized American Indian reservations (AIRs), off-reservation trust lands (ORTLs), and tribal subdivisions.

• A single respondent for the Hawaiian home land (HHL) boundary and status information.

• A single respondent for the municipio, barrio, and subbarrio boundary and status information in Puerto Rico.

As illustrated in the table below from 2016 to 2021, the BAS universe varies throughout the decade. The Census Bureau divides the reporting universe years into three categories:

BAS Universe Information for 2016-2021
BAS year | Details
2018—2020 | Full BAS universe years.
2016, 2017, 2021 | Select BAS universe years.
2016—2020 | Redistricting Data Program (RDP) coordination years.

Full BAS Universe Years

From 2018 to 2020, the BAS includes all governmentally active counties and equivalent entities, all incorporated places, all legally defined MCDs, HHLs, legal governments in Puerto Rico, and legally defined federally recognized American Indian and Alaska Native (AIAN) areas (including the Alaska Native Regional Corporations (ANRCs)). Each governmental entity surveyed will receive materials covering its jurisdiction and one or more forms. These three years coincide with the Census Bureau's preparation for the decennial census.

Select BAS Universe Years

In all other years, including 2021, the BAS reporting universe includes all governmental counties and equivalent entities, MCDs in the six New England states, those incorporated places that have a population of 2,500 or greater, and all legally defined federally recognized AIAN areas, including ANRCs. During these years, the Census Bureau may enter into agreements with individual states to modify the universe of MCDs and/or incorporated places to include additional entities that are known by that state to have had boundary changes, without regard to population size.

Redistricting Data Program Coordination Years

In the years 2016 through 2020, state participants in the Redistricting Data Program (RDP) may request coordination between the BAS and RDP submissions for the Block Boundary Suggestion Project (BBSP) and Voting District Project (VTDP). The alignment of the BAS with the BBSP and VTDP facilitates increased cooperation between state and local governments and provides the opportunity to align their effort with updates from state and local government officials participating in the BAS.

III. Method of Collection

The Census Bureau maintains several methods to collect information and updates for legal boundaries. The Census Bureau provides the participant with current geography derived from the Master Address File/Topologically Integrated Geographic Encoding and Referencing Database (MTDB) on CD/DVD, paper maps, or online services. The participant reviews the geography and provides the Census Bureau any changes or updates. The Census Bureau updates the MTDB based on the submitted changes and uses that data to tabulate statistics for other programs like the American Community Survey, the Population Estimates Program, and the economic and decennial censuses.

The two methods for BAS participants to view and update the Census Bureau's record of legal boundaries are through digital map files (Digital BAS) or paper maps (Paper BAS).

The following BAS collection methods allow the Census Bureau to coordinate among various levels of governments and obtain the most accurate boundary information:

• Annual Response.

• Boundary Quality Assessment and Reconciliation Project (BQARP).

• Boundary Validation Program (BVP).

• Consolidation Agreements.

• Memorandum of Understanding (MOU).

• State Certification.

Digital BAS

In digital BAS, participants fill out the online BAS forms and choose one of the following options:

• Download free software and MTDB spatial data.

• Receive free software and MTDB spatial data on CD/DVD.

• Download MTDB spatial data and use their own Geographic Information Systems (GIS) software.

The free software provided by the Census Bureau, called GUPS, consists of specialized BAS tools intended for both novice and experienced GIS users. Digital BAS respondents use GUPS or their own GIS to review the boundaries the Census Bureau has on file and make boundary updates or corrections. Once the BAS participant is finished updating the boundaries, the participant submits the files electronically by using the Secure Web Incoming Module (SWIM) or burn the updates to a CD/DVD and return it to the Census Bureau.

If the BAS participant elects to receive GUPS on CD/DVD, the package contains:

1. Introductory letter from the Director of the Census Bureau.

2. Appropriate BAS form(s) that contains entity-specific identification information.

a. BAS-1: Incorporated places and consolidated cities.

b. BAS-2: Counties, parishes, and boroughs.

c. BAS-3: MCDs.

d. BAS-5: AIAN areas.

3. CD or DVD and software CD for GUPS.

4. CD(s) or DVD(s) of Census Bureau spatial boundaries files.

Paper BAS

For the traditional paper package, respondents complete the BAS form and reviews Census Bureau maps of their legal area. If needed, respondents draw boundary updates or corrections on the maps using pencils provided in the package. The package contains large format maps, printed forms, and supplies to complete the survey.

The typical BAS package contains:

1. Introductory letter from the Director of the Census Bureau.

2. Appropriate BAS form(s) that contains entity-specific identification information.

a. BAS-1: Incorporated places and consolidated cities.

b. BAS-2: Counties, parishes, and boroughs.

c. BAS-3: MCDs.

d. BAS-5: AIAN areas.

3. BAS Respondent Guide.

4. Set of maps.

5. Return postage-paid envelope to submit boundary changes.

6. Supplies for updating paper maps.

Annual Response

In Annual Response, the Census Bureau invites governments to participate in the BAS. The Annual Response is an announcement email letter and a one-page form for the state and county governments that do not have a consolidation agreement. Tribal, county, and local governments indicate whether they have boundary changes to report and provide a current contact person. The Census Bureau uses email and encourages governments to use the online form and download BAS materials online to reduce cost and respondent burden. All governments, without a consolidation agreement, receive the Annual Response email regardless of population size.

The following table shows the details of the Annual Response, which occurs between January and May of each year.

Annual Response Schedule for BAS
January | The Census Bureau emails the Annual Response to BAS contacts in January of each year.
January-May | Governments request BAS packages or download materials online.
March 1 | First deadline. Legal boundary updates sent by March 1 are included in the geography the Census Bureau uses for the American Community Survey and Population Estimates Program.
May 31 | Final deadline. Updates sent by May 31 are included in the following year's BAS materials.

In the year 2020, all legal documentation for inclusion in the 2020 Census must be effective as of January 1, 2020, or earlier. All legal boundary changes will be placed on hold and updated during the 2021 BAS if effective January 2, 2020, or later.

Boundary Quality Assessment and Reconciliation Project

To improve boundary quality in the Census Bureau's MTDB, the Census Bureau uses the Boundary Quality Assessment and Reconciliation Project (BQARP) to support the BAS program. The goal of the BQARP is to assess, analyze, and improve the spatial quality of legal and administrative boundaries within the MTDB, which the BAS would then continue the collection of annexations and de-annexations on a transaction basis as they occur over time. The BQARP is a one-time project that eases the burden of BAS participants by addressing smaller boundary corrections. After a state has completed the BQARP, BAS participants will only need to submit boundary changes, such as annexations or de-annexations. Ensuring quality and spatially accurate boundaries is a critical component of the geographic preparations for the 2020 Census and the Census Bureau's ongoing geographic partnership programs and surveys. In addition, the improvement of boundary quality is an essential element of the Census Bureau's commitment as the responsible agency for legal boundaries under the Office of Management and Budget (OMB) Circular A-16.

Boundary Validation Program

The Census Bureau will conduct the 2020 Boundary Validation Program (BVP) in conjunction with the 2020 BAS. The Census Bureau conducts the BVP every ten years to provide the highest elected or appointed officials (HEOs) of tribal and local governments an opportunity to review the boundary data collected during the BAS over the last decade. The 2020 BVP will cover:

• All actively functioning counties or statistically equivalent entities.

• Incorporated places (including consolidated cities).

• MCDs.

• All federally recognized AIRs and off-reservation trust land entities in the United States.

• Municipios, barrios, barrio-pueblos and subbarrios in Puerto Rico.

In addition, the Census Bureau will send a letter to the governor of each state explaining the 2020 BVP process and noting that the Census Bureau will review the state boundaries in conjunction with relevant county boundaries as part of the BVP.

The Census Bureau will conduct the 2020 BVP in two phases: Initial and final. During the initial BVP phase, every HEO in the BAS universe will receive a BVP form, a letter with instructions, and a CD/DVD containing a complete set of 2020 BAS maps in PDF format for their governmental unit. The Census Bureau asks the HEO to review the 2020 BAS maps contained on the CD/DVD and return the BVP form within ten days of receipt. If the HEO determines that there are no changes to report, the HEO will sign and return the validated BVP form. If the HEO determines that their entity requires boundary changes, the Census Bureau will instruct the HEO to return the unsigned BVP form and work with their local BAS contact to submit boundary changes through the 2020 BAS process. If either the HEO or the BAS contact submits 2020 BAS boundary updates, effective as of January 1, 2020, by the deadline of March 1, 2020, the entity will be included in the final phase of the BVP.

In the final BVP phase, once the Census Bureau applies the participant's 2020 BAS boundary updates to the MTDB, the Census Bureau will provide each HEO a complete set of updated paper maps. This is participants' final opportunity to review the boundary and verify that the Census Bureau clearly reflects the 2020 BAS changes in the MTDB. In the final BVP phase, each HEO submits any remaining corrections within five days directly to the Census Bureau using the instructions provided in the BAS respondent guide.

Consolidation Agreements

Consolidation agreements allow state and county government officials the opportunity to reduce the response burden for their local governments in states where there are no legislative requirements for local governments to report their legal updates to the state or county. Under a consolidation agreement, a state or county is allowed to respond on behalf of the local governments documented in the agreement. The Census Bureau sends the BAS materials to the state or county, as appropriate, and sends a reminder notification to the local government to report their updates to their BAS consolidator.

Memorandum of Understanding

In states with legislation requiring local governments to report all legal boundary updates to a state agency, state officials may enter into a memorandum of understanding (MOU) with the Census Bureau. States have the option to report the list of governments with known legal boundary changes to the Census Bureau. The BAS will include only those governments listed or the state may report the legal boundary changes directly to the Census Bureau on behalf of the governments. The Census Bureau will not survey the local governments if the state reports for them. The Census Bureau will send a reminder email notification to the governments requesting them to report to the state contact, per the terms and agreements agreed upon in the MOU.

State Certification

Through the BAS State Certification program, the Census Bureau invites the governor-appointed State Certifying Official (SCO) from each state to review the boundary and governmental unit information collected during the previous BAS cycle. The purpose of the State Certification program is to verify the accuracy, validity, and completeness of the BAS information with state governments. Every year, excluding 2020, the Census Bureau mails materials containing the listings of the information collected from the previous BAS year to the SCO for review. These listings include the attribute information for disincorporations and legal boundary changes as well as the names and functional statuses of incorporated places and minor civil divisions (MCDs). The SCO may request that the Census Bureau edit the attribute data, add missing records, or remove invalid records if their state government maintains an official record of all effective changes to legal boundaries and governmental units as mandated by state law. State certification packages contain a letter to the governor, a state certifying official letter, a discrepancy letter, and a state certification respondent guide.

IV. Data

OMB Control Number: 0607-0151.

Form Number: BAS-1, BAS-2, BAS-3, BAS-5, BAS-6, BAS-ARF BASSC-1, BASSC-2, BASSC-3, BASSC-4, BVP-1, BVP-L1, BVP-L1-AIA, BVP-L1-PR, BVP-2, BVP-L3, BVP-2, BVP-L4, and BVP-L4-AIA.

Type of Review: Regular submission.

Affected Public: All active, functioning counties or statistically equivalent entities; incorporated places (including consolidated cities); MCDs; all federally recognized AIRs and ORTLs entities in the United States; municipios, barrios, barrio-pueblos, and subbarrios in Puerto Rico; and HHLs.

Estimated Number of Respondents:

Annual Response Notification: 39,400 governments.

No Change Response: 25,000 governments.

Telephone Follow-up: 14,000 governments.

Packages with Changes: 5,000 governments.

State Certification Review: 49 states.

State Certification Local Review: 1,000 governments.

Boundary Quality Assessment and Reconciliation Project: 16 states.

Redistricting Data Program Reconciliation State Review: 50 states.

Redistricting Data Program Reconciliation Local Review: 2,000 governments.

Boundary Validation Program: 48,000 governments.

Estimated Total Number of Respondents: 134,555 governments.

Estimated Time per Response:

Annual Response Notification: 30 minutes.

No Change Response: 4 hours.

Telephone Follow-up: 30 minutes.

Packages with Changes: 8 hours.

State Certification Review: 10 hours.

State Certification Local Review: 2 hours.

Boundary Quality Assessment and Reconciliation Project: 25 hours.

Redistricting Data Program Reconciliation State Review: 20 hours.

Redistricting Data Program Reconciliation Local Review: 2 hours.

Boundary Validation Program: 2 hours.

Estimated Total Burden Hours per Year:

Annual Response Notification: 19,700.

No Change Response: 100,000.

Telephone Follow-up: 7,000.

Packages with Changes: 40,000.

State Certification Review: 490.

State Certification Local Review: 2,000.

Boundary Quality Assessment and Reconciliation Project: 400.

Redistricting Data Program Reconciliation State Review: 1,000.

Redistricting Data Program Reconciliation Local Review: 4,000.

Boundary Validation Program: 96,000.

Estimated Total Burden Hours: 270,710.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. Section 6.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Summarization of comments submitted in response to this notice will be included in the request for OMB approval of this information collection. Comments will also become a matter of public record.

Sheleen Dumas,
Departmental Lead PRA Officer, Office of the Chief Information Officer.

[FR Doc. 2018-04514 Filed 3-5-18; 8:45 am]

BILLING CODE 3510-07-P